DEPARTMENT OF DEFENSE

Department of the Navy

[Docket ID: USN-2022-HQ-0004]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by May 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Navy Family Ombudsman Program; OMB Control Number 0703-0070.

Type of Request: Revision.

Number of Respondents: 4,500.

Responses per Respondent: 1.

Annual Responses: 4,500.

Average Burden per Response: 30 minutes.

Annual Burden Hours: 2,250.

Needs and Uses: The information collection requirement is necessary to solicit and select a spouse for the volunteer Ombudsman position in Navy components. An Ombudsman is the spouse of an active duty or Selected Reserve member of the command, enlisted or officer. This requirement can be waived if, after a diligent search, no appropriate spouse volunteer is available. Family members, civilian employees affiliated with the command, and active duty service members may be considered for a waiver. As part of the selection process, prospective Ombudsmen will be notified of the request for an interview by either the commanding officer or another member of the Command Support Team. Prospective Ombudsmen may be interviewed by phone, or in person with the commanding officer. The information collection is also necessary to provide Ombudsmen with program information; communicate during natural disasters and crisis; collect program contact numbers and workload data; and maintain records of program training received. Numbers provided from the collection help identify the issues and concern of the families, trends during deployment and identify training which may be beneficial to the command families.

Affected Public: Individuals or households.

Frequency: On occasion.

Respondent's Obligation: Voluntary.

OMB Desk Officer: Ms. Jasmeet Seehra.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: April 19, 2022.
Aaron T. Siegel,
Alternate OSD Federal Register Liaison Officer, Department of Defense.

[FR Doc. 2022-08745 Filed 4-22-22; 8:45 am]

BILLING CODE 5001-06-P